DEPARTMENT OF ENERGY

Federal Energy Regulatory Commission

[Docket No. CP04-38-001]

Cheniere Sabine Pass Pipeline Company; Notice of Amendment to Application for Certificate of Public Convenience and Necessity

February 10, 2004.

Take notice that on February 6, 2004, Cheniere Sabine Pass Pipeline Company (Cheniere Sabine ), 717 Texas Avenue, Suite 3100, Houston, Texas 77002, filed an amendment to its Application for a Certificate of Public Convenience and Necessity, filed on December 22, 2003 pursuant to Section 7(c) of the Natural Gas Act (NGA). The amended Application reflects a shortening and redesign of the originally proposed pipeline route.

This amendment is on file with the Commission and open to public inspection. The filing is available for review at the Commission in the Public Reference Room or may be viewed on the Commission's Web site at http://www.ferc.gov using the “eLibrary” link. Enter the docket number excluding the last three digits in the docket number field to access the document; add the sub-docket-001 to look only at the amendment. For assistance, please contact FERC Online Support at FERCOnlineSupport@ferc.gov or toll free at (866) 208-3676, or for TTY, contact (202) 502-8659. Any initial questions regarding this amendment should be directed to Keith M. Meyer, 333 Clay Street, Suite 3400, Houston, Texas. Phone: (713) 659-1361.

Cheniere Sabine says that its pipeline proposal has now changed from about 120 miles to about 16 miles in length. Cheniere Sabine notes that it had also modified the diameter of the proposed pipeline from 48-inches to 42-inches and changed in the maximum capacity of the proposed pipeline from 2.7 Bcf per day to 2.6 Bcf per day. The amended Cheniere Sabine pipeline route will follow the first 16 miles of the route proposed in the December 22 filing, at which point it will terminate at Johnson Bayou, Louisiana—the site of multiple gas processing facilities and pipeline interconnects. Accordingly, Cheniere Sabine states that the route will terminate at milepost (MP) 16.0, rather than MP 119.7, as originally proposed. Included in the amendment are various revised exhibits which supercede the relevant part of the exhibits in the December 22 filing to reflect the changes in the location, size, design, cost, and rate derivation of the amended proposal. Cheniere Sabine says that this shorter pipeline route is being proposed, in large part, for environmental reasons in order to minimize impacts to sensitive wetlands. Finally, Cheniere Sabine says it will conduct a 60-day open season beginning in the next few weeks for the purpose of obtaining binding commitments for firm transportation capacity.

Persons who filed motions to intervene in the applications filed on December 22, 2003 do not need to refile a motion to intervene in response to this amendment, but may file additional comments by the comment date, below.

Otherwise, there are two ways to become involved in the Commission's review of this amendment. First, any person wishing to obtain legal status by becoming a party to the proceeding for this amendment should file with the Federal Energy Regulatory Commission, 888 First Street, NE., Washington, DC 20426, a motion to intervene in accordance with the requirements of the Commission's Rules of Practice and Procedure (18 CFR 385.214 or 385.211) and the regulations under the NGA (18 CFR 157.10) by the comment date, below. A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene to have comments considered. The second way to participate is by filing with the Secretary of the Commission, as soon as possible, an original and two copies of comments in support of or in opposition to this amendment. The Commission will consider these comments in determining the appropriate action to be taken, but the filing of a comment alone will not serve to make the filer a party to the proceeding. The Commission's rules require that persons filing comments in opposition to the amendment provide copies of their protests only to the party or parties directly involved in the protest.

Protests and interventions may be filed electronically via the Internet in lieu of paper; see 18 CFR 285.2001(a)(1)(iii) and the instructions on the Commission's Web site under the “e-filing” link. The Commission strongly encourages electronic filings.

Comment Date: February 25, 2004.

Magalie R. Salas,
Secretary.

[FR Doc. E4-301 Filed 2-13-04; 8:45 am]

BILLING CODE 6717-01-P